DEPARTMENT OF TRANSPORTATION

Federal Aviation Administration

Notice of Availability of the Record of Decision (ROD) for the Cal Black Memorial Airport, Halls Crossing Replacement Airport

AGENCY: Federal Aviation Administration (FAA), DOT.

ACTION: Notice of Availability.

SUMMARY: In accordance with the National Environmental Policy Act of 1969 (NEPA, 42 U.S.C. 4321 et seq.) and Council on Environmental Quality regulations (40 CFR parts 1500-1508), the Federal Aviation Administration announces the availability of the Record of Decision for the Cal Black Memorial Airport, replacement airport for the Halls Crossing Airport.

ADDRESSES: Copies of the ROD may be viewed during regular business hours at the following locations:

1. Federal Aviation Administration Airports Division, Suite 315, 1601 Lind Avenue SW., Renton, WA 98057.

2. Federal Aviation Administration, Airports District Office, Suite 224, 26805 East 68th Avenue, Denver, CO 80249.

3. San Juan County Courthouse, County Executive Office, 117 S. Main, Monticello, Utah 84535.

The ROD will also be available on the following Web site: http://halls.crossing.airportnetwork.com/.

FOR FURTHER INFORMATION CONTACT: Janell Barrilleaux, Environmental Program Manager, Federal Aviation Administration Airports Division, Northwest Mountain Region, 1601 Lind Avenue SW., Renton, WA 98057. Mrs. Barrilleaux may be contacted during business hours at (425) 227-2611 (phone), (425) 227-1600 (fax), or via email at Janell.Barrilleaux@faa.gov.

SUPPLEMENTARY INFORMATION: The Halls Crossing replacement airport was originally proposed in 1966 due to the inadequacy of the existing Halls Crossing airstrip. After completion of numerous planning studies, the Federal Aviation Administration completed an Environmental Impact Statement (EIS) (June, 1990) with the cooperation of the National Park Service (NPS) and the Bureau of Land Management (BLM). A Record of Decision (ROD) was issued in August 1990 approving the development of what is now named the Cal Black Memorial Airport. Concurrently, the BLM approved an amendment of a land plan which allowed the conveyance of land to San Juan County for the construction of the new airport.

In 1990, the National Parks Conservation Association (NPCA),¹ et al.² brought suit concerning the adequacy of the 1990 Final EIS and the adequacy of the BLM plan amendment and land transfer process. In its July 7, 1993 decision, the U.S. Court of Appeals for the Tenth Circuit concluded that “the action of FAA approving the project based on a finding of `no significant impact' and `no significant adverse impact' [was] arbitrary and capricious.” The court proceeding stated:

¹ Note: The title of the organization as documented in the 1993 United States Court of Appeals case National Parks Conservation Association, et al. v Federal Aviation Administration, et al.

² Other parties to the suit included the Southern Utah Wilderness Alliance, the Sierra Club, and Deborah L. Threedy.

We therefore REVERSE the BLM's plan amendment and the transfer of land. We REMAND for further proceedings to determine whether the land should be retained under BLM control and management or reconveyed to San Juan County under a newly proposed land use plan amendment. In the case of the FAA, the airport has already been built. This does not mean that a remand would be meaningless, however. On remand, the FAA should re-analyze the impact of the airport under section 4(f) and section 2208.³ The FAA may determine that it must make use of studies not utilized in the current FEIS. If a “significant” impact is found, section 4(f) and section 2208 require that all reasonable steps be taken to mitigate the damage or adverse impact. We therefore REVERSE the FAA's determination of no significant impact and REMAND to the FAA for further proceedings consistent with this decision.

³ Note: In 1994, the provisions of the Airport and Airway Improvement Act of 1982 were codified in U.S. Code Title 49, chapter 471, subchapter I.

In response to the court remand, FAA, in cooperation with BLM and NPS prepared a Supplemental EIS (SEIS).⁴ The Draft SEIS for the Cal Black Memorial Airport (Replacement Airport for Halls Crossing Airport) was published on December 12, 2014. The 45-day comment period included an opportunity to request a public hearing; however, no responses were received requesting a hearing. The following parties submitted comments to the FAA on the Draft SEIS during the comment period: U.S. Department of the Interior, U.S. Environmental Protection Agency, BLM, and the NPCA. An errata sheet was drafted to identify changes that were made to the Draft SEIS in response to comments received. Additionally, an appendix was added (Appendix J) to document each comment received, and FAA's response to each comment. These additional documents, in combination with a CD containing the Draft SEIS, constitute the Final SEIS for the Replacement Airport at Halls Crossing. The Final SEIS for the Cal Black Memorial Airport (replacement airport for the Halls Crossing Airport) was published on May 8, 2015.

⁴ BLM addressed its requirements through its revisions to their Resource Management Plan in 2008. Bureau of Land Management Monticello Field Office, Record of Decision and Approved Resource Management Plan (November 2008).

The SEIS described potential environmental consequences that could result from the continued operation of the Cal Black Memorial Airport to resources located within the Project Area. Direct effects of the new airport (its construction) as well as indirect effects (airport operations) were identified in the 1990 FEIS. The SEIS provided further evaluation of actual and potential aircraft noise impacts, as well as Section 4(f) impacts and cumulative impacts. Evaluation of noise impacts focused exclusively on the effect of aircraft noise on GCNRA and surrounding lands. Chapter III, Environmental Consequences, presents the analysis for noise impacts, Section 4(f) impacts, and Cumulative Effects resulting from the operation of the Cal Black Memorial Airport.

The FAA has determined, based on the noise analysis conducted for the SEIS that as there are no significant impacts related to the continued operation of the Cal Black Memorial Airport, there is no need for any mitigation measures under either Section 4(f) or Section 2208.

In addition, the FAA has confirmed that the ROD for the 1990 EIS included the FAA determinations made for the project based upon evidence set forth in the FEIS, public input, and the supporting administrative record. These determinations are not changed by any new information developed for this SEIS.

Issued in Renton, Washington, July 28, 2015.
Stanley C. Allison,
Acting Division Manager, Airports Division, Northwest Mountain Region.

[FR Doc. 2015-19145 Filed 8-3-15; 8:45 am]

BILLING CODE 4910-13-P